DEPARTMENT OF THE INTERIOR

Bureau of Land Management

[AZ-956-02-1420-BJ]

Notice of Filing of Plats of Survey

April 5, 2004.

1. The plats of survey of the following described land were officially filed in the Arizona State Office, Phoenix, Arizona, on the dates indicated:

A plat representing the dependent resurvey of a portion of the subdivisional lines and the metes-and-bounds surveys in sections 8 and 9, Township 10 North, Range 3 East, of the Gila and Salt River Meridian, Arizona, accepted January 22, 2004 and officially filed January 29, 2004.

This plat was prepared at the request of the Bureau of Land Management.

A plat representing the dependent resurvey of portions of the east, west and north boundaries and a portion of the subdivisional lines, the subdivision of certain sections and metes-and-bounds surveys in sections 20 and 25, Township 11 North, Range 3 East of the Gila and Salt River Meridian, Arizona, accepted January 23, 2004 and officially filed January 29, 2004.

This plat was prepared at the request of the Bureau of Land Management.

A plat representing the dependent resurvey of a portion of the north boundary and the metes-and-bounds survey of tract 37, in partially surveyed Township 11 North, Range 11 East of the Gila and Salt River Meridian, Arizona, accepted February 19, 2004 and officially filed February 25, 2004.

This plat was prepared at the request of the United States Forest Service.

A plat representing the dependent resurvey of the south and east boundaries, a portion of the subdivisional lines and a portion of the boundary of Management District No. 6, Hopi Indian Reservation and the survey of a portion of the subdivisional lines, Township 27 North, Range 19 East of the Gila and Salt River Meridian, Arizona, accepted March 23, 2004 and officially filed March 31, 2004.

This plat was prepared at the request of the Bureau of Indian Affairs, Western Regional Office.

A plat representing the survey of the Eighth Standard Parallel North, (south boundary), the east, west and north boundaries, and the subdivisional lines, Township 33 North, Range 19 East of the Gila and Salt River Meridian, Arizona, accepted March 10, 2004 and officially filed March 22, 2004.

This plat was prepared at the request of the Bureau of Indian Affairs, Navajo Regional Office.

A plat representing the dependent resurvey of a portion of the Fifth Guide Meridian East (east boundary), the south and west boundaries, a portion of the north boundary and a portion of the subdivisional lines, Township 26 North, Range 20 East of the Gila and Salt River Meridian, Arizona, accepted March 23, 2004 and officially filed March 31, 2004.

This plat was prepared at the request of the Bureau of Indian Affairs, Western Regional Office.

A plat representing the survey of the south and north boundaries, and the subdivisional lines, Township 31 North, Range 21 East of the Gila and Salt River Meridian, Arizona, accepted March 10, 2004 and officially filed March 22, 2004.

This plat was prepared at the request of the Bureau of Indian Affairs, Navajo Regional Office.

A plat representing the survey of the Fifth Guide Meridian East, (west boundary), and the subdivisional lines, Township 32 North, Range 21 East of the Gila and Salt River Meridian, Arizona, accepted March 10, 2004 and officially filed March 22, 2004.

This plat was prepared at the request of the Bureau of Indian Affairs, Navajo Regional Office.

A plat representing the dependent resurvey of the Sixth Standard Parallel North, (south boundary), Township 25 North, Range 22 East of the Gila and Salt River Meridian, Arizona, accepted March 10, 2004 and officially filed March 22, 2004.

This plat was prepared at the request of the Bureau of Indian Affairs, Navajo Regional Office.

A plat representing the survey of the south, east and north boundaries, and the subdivisional lines, Township 31 North, Range 23 East of the Gila and Salt River Meridian, Arizona, accepted January 20, 2004 and officially filed January 23, 2004.

This plat was prepared at the request of the Bureau of Indian Affairs, Navajo Regional Office.

A plat representing the survey of the south and north boundaries, and the subdivisional lines, Township 31 North, Range 24 East of the Gila and Salt River Meridian, Arizona, accepted February 10, 2004 and officially filed February 19, 2004.

This plat was prepared at the request of the Bureau of Indian Affairs, Navajo Regional Office.

A plat representing the dependent resurvey of a portion of the south and west boundaries and a portion of the subdivisional lines and the subdivision of sections 6, 17, and 20, Townships 13 South, Range 10 East of the Gila and Salt River Meridian, Arizona, accepted February 9, 2004 and officially filed February 13, 2004.

This plat was prepared at the request of the Bureau of Land Management.

A plat representing the dependent resurvey of a portion of the Fort Huachuca Military Reservation boundary and a portion of the subdivisional lines, Township 21 South, Range 20 East of the Gila and Salt River Meridian, Arizona, accepted February 6, 2004 and officially filed February 12, 2004.

This plat was prepared at the request of the Department of the Army.

2. All inquiries relation to these lands should be sent to the Arizona State Office, Bureau of Land Management, 222 N. Central Avenue, PO Box 1552, Phoenix, Arizona 85001-1552.

Kenny D. Ravnikar,
Chief Cadastral Surveyor of Arizona.

[FR Doc. 04-8776 Filed 4-16-04; 8:45 am]

BILLING CODE 4310-32-P